DEPARTMENT OF JUSTICE

Office of Justice Programs

[OMB Number 1121-0277]

Agency Information Collection Activities: Proposed Collection; Comments Requested

ACTION: 30-Day Notice of Information Collection Under Review: Office for Victims of Crime Training and Technical Assistance Center (OVC TTAC) Needs Assessment Survey.

The Department of Justice, Office of Justice Programs, Office for Victims of Crime, will be submitting the following information collection request for review and clearance in accordance with the Paperwork Reduction Act of 1995. Office of Management and Budget approval is being sought for the information collection listed below. This proposed information collection was previously published in the Federal Register Volume 74, Number 34, page 8110, on February 23, 2009, allowing for a 60 day comment period.

The purpose of this notice is to allow for an additional 30 days for public comment until June 3, 2009. This process is conducted in accordance with 5 CFR 1320.10.

Written comments and/or suggestions regarding the items contained in this notice, especially the estimated public burden and associated response time, should be directed to Pamela Leupen, Director, Technical Assistance, Publications, and Information Resources, Office for Victims of Crime, Office of Justice Programs, Department of Justice, 810 7th Street, NW., Washington, DC 20530.

Written comments and suggestions from the public and affected agencies concerning the proposed collection of information are encouraged. Your comments should address one or more of the following four points:

(1) Evaluate whether the proposed collection of information is necessary for the proper performance of the functions of the agency/component, including whether the information will have practical utility;

(2) Evaluate the accuracy of the agencies/components estimate of the burden of the proposed collection of information, including the validity of the methodology and assumptions used;

(3) Enhance the quality, utility, and clarity of the information to be collected; and

(4) Minimize the burden of the collection of information on those who are to respond, including the use of appropriate automated, electronic, mechanical, or other technological collection techniques or other forms of information technology, e.g., permitting electronic submission of responses.

Overview of this information collection:

(1) Type of Information Collection: New Collection.

(2) Title of the Form/Collection: OVC TTAC Needs Assessment Survey.

(3) The Agency form number, if any, and the applicable component of the Department of Justice sponsoring the collection: Form Number(s): NA. Office for Victims of Crime, Office of Justice Programs, Department of Justice.

(4) Affected public who will be asked or required to respond, as well as a brief abstract. Primary: State, Local or Tribal. Other: Federal Government; Individuals or households; Not-for-profit institutions; Businesses or other for-profit. Abstract: The Office for Victims of Crime Training and Technical Assistance Center (OVC TTAC) Needs Assessment Survey is designed to collect the data necessary to continuously improve customer service intended to meet the needs of the victim services field. OVC TTAC will send the form to individuals employed at agencies and programs providing services to victims of crime. The purpose of this data collection will be to identify gaps in training among victims service providers; methods for meeting the issues and challenges voiced by victim service providers; the context in which services are delivered and received; and emerging issues and trends within the victims service community. The data will then be used to advise OVC and OVC TTAC on ways to improve the support it provides to the victims services field at-large.

(5) An estimate of the total number of respondents and the amount of time estimated for an average respondent to respond/reply: There are approximately 1,500 respondents who will each require an average of 20-30 minutes to respond to this form.

(6) An estimate of the total public burden (in hours) associated with the collection: The total annual public burden hours for this information collection is estimated to be 750 hours.

If additional information is required contact: Lynn Bryant, Department Clearance Officer, United States Department of Justice, Planning and Policy Staff, Justice Management Division, 601 D Street, NW., Suite 1600, Washington, DC 20530.

Dated: April 28, 2009.
Lynn Bryant,
Department Clearance Officer, PRA, United States Department of Justice.

[FR Doc. E9-10131 Filed 5-1-09; 8:45 am]

BILLING CODE 4410-18-P